SECURITIES AND EXCHANGE COMMISSION

Sunshine Act Meeting

Federal Register Citation of Previous Announcement: [70 FR 67765, November 8, 2005].

Status: Closed Meeting.

Place: 100 F Street, NE., Washington, DC.

Date and Time of Previously Announced Meeting: Thursday, November 10, 2005 at 10 a.m.

Change in the Meeting: Time change/deletion of items.

The Closed Meeting scheduled for Thursday, November 10, 2005 at 10 a.m. has been changed to Thursday, November 10, 2005 at 9:30 a.m.

The following items will not be considered during the Thursday, November 10, 2005 Closed Meeting:

Opinion; and

Regulatory matter bearing enforcement implications.

At times, changes in Commission priorities require alterations in the scheduling of meeting items. For further information and to ascertain what, if any, matters have been added, deleted or postponed, please contact the Office of the Secretary at (202) 551-5400.

Dated: November 9, 2005.
Jonathan G. Katz,
Secretary.

[FR Doc. 05-22585 Filed 11-9-05; 11:13 am]

BILLING CODE 8010-01-P